NUCLEAR REGULATORY COMMISSION

[NRC-2009-0396]

Notice of Issuance of Regulatory Guide

AGENCY: Nuclear Regulatory Commission.

ACTION: Notice of Issuance and Availability of Regulatory Guide 2.5, Revision 1, “Quality Assurance Program Requirements for Research and Test Reactors”.

FOR FURTHER INFORMATION CONTACT: R. A. Jervey, Regulatory Guide Development Branch, Division of Engineering, Office of Nuclear Regulatory Research, U.S. Nuclear Regulatory Commission, Washington, DC 20555-0001, telephone (301) 251-7404 or e-mail RAJ@nrc.gov.

SUPPLEMENTARY INFORMATION:

I. Introduction

The U.S. Nuclear Regulatory Commission (NRC) is issuing a revision to an existing guide in the agency's “Regulatory Guide” series. This series was developed to describe and make available to the public information, such as methods that are acceptable to the NRC staff for implementing specific parts of the agency's regulations, techniques that the staff uses in evaluating specific problems or postulated accidents, and data that the staff needs in its review of applications for permits and licenses.

Regulatory Guide 2.5, Revision 1, “Quality Assurance Program Requirements for Research and Test Reactors” was issued with a temporary identification as Draft Regulatory Guide, DG-2001, in September 2009. The Regulatory Guide endorses guidance within ANSI/ANS-15.8, “Quality Assurance Program Requirements for Research Reactors,” issued in September 1995, and reaffirmed in September 2005.

The American National Standards Institute (ANSI) and the American Nuclear Society (ANS) issued ANSI/ANS-15.8 in August 1976. The NRC subsequently endorsed this guidance in Revision 0 to Regulatory Guide 2.5, “Quality Assurance Program Requirements for Research Reactors,” in October 1977. Because of significant changes made to management programs and to the expected level of detail and documentation of program elements for nonpower (research and test) reactors, ANSI/ANS-15.8-1995 was issued, and later reaffirmed in September 2005, to incorporate the acknowledged enhancements to quality assurance programs.

II. Further Information

In September 2009, DG-2001 was published with a public comment period of 60 days from the issuance of the guide. The staff's response to the public comment received is located in the NRC's Agencywide Documents Access and Management System (ADAMS) under Accession Number ML100120426. The regulatory analysis may be found in ADAMS under Accession No. ML101650030. Electronic copies of Regulatory Guide 2.5, Revision 1 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 22nd day of June, 2010.
For the Nuclear Regulatory Commission.
Andrea D. Valentin,
Chief, Regulatory Guide Development Branch, Division of Engineering, Office of Nuclear Regulatory Research.

[FR Doc. 2010-15883 Filed 6-29-10; 8:45 am]

BILLING CODE 7590-01-P